DEPARTMENT OF THE INTERIOR

National Park Service

[NPS-WASO-NAGPRA-NPS0025952; PPWOCRADN0-PCU00RP14.R50000]

Notice of Inventory Completion: Binghamton University, State University of New York, Binghamton, NY

AGENCY: National Park Service, Interior.

ACTION: Notice.

SUMMARY: The Binghamton University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Binghamton University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Binghamton University at the address in this notice by September 7, 2018.

ADDRESSES: Nina M. Versaggi, Public Archaeology Facility, Binghamton University, P.O. Box 6000, Binghamton, NY 13902-6000, telephone (607) 777-4786, email nversagg@binghamton.edu.

SUPPLEMENTARY INFORMATION: Notice is here given in accordance with the Native American Graves Protection and Repatriation Act (NAGPRA), 25 U.S.C. 3003, of the completion of an inventory of human remains and associated funerary objects under the control of the Binghamton University, Binghamton, NY. The human remains and associated funerary objects were removed from Chenango County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Binghamton University professional staff in consultation with representatives of the Cayuga Nation; Delaware Nation, Oklahoma; Delaware Tribe of Indians; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Stockbridge Munsee Community, Wisconsin; Tonawanda Band of Seneca (previously listed as the Tonawanda Band of Seneca Indians of New York); and Tuscarora Nation.

History and Description of the Remains

Sometime before 1975, human remains representing, at minimum, three individuals were removed from an unknown site in Chenango County, NY, possibly the Bates Site. An unknown individual donated the human remains to the Greene Middle School in the Town of Greene, Chenango County, NY in 1975. According to the teacher interviewed, the human remains came from an area that is near (or overlaps) the previously recorded Bates site, a Late Woodland settlement. The Greene Middle School gave the human remains to Binghamton University. No known individuals were identified. There are no associated funerary objects.

A bioarchaeologist and archaeologist from Binghamton University determined that the human remains were Native American. Archeological information from the Bates site includes Canandaigua Phase (Sackett Corded) pottery and radiocarbon dates that cluster around A.D. 1190.

Haudenosaunee oral tradition states that, as The People of the Long House, they are affiliated culturally, spiritually, biologically, and personally to the ancestors located within their traditional aboriginal territories. This connection is also based upon cultural practices, language, and the philosophy of respect for those ancestors that have passed. This evidence supports a relationship of shared group identity which can reasonably be traced between the Oneida Nation (previously listed as the Oneida Tribe of Indians of Wisconsin); Oneida Indian Nation (previously listed as the Oneida Nation of New York); Onondaga Nation; and Tuscarora Nation and the human remains removed from Chenango County, as this location is within the traditional aboriginal territory of the Oneida, Onondaga, and Tuscarora Nations.

Determinations Made by the Binghamton University

Officials of the Binghamton University have determined that:

• Pursuant to 25 U.S.C. 3001(9), the human remains described in this notice represent the physical remains of three individuals of Native American ancestry.

• Pursuant to 25 U.S.C. 3001(2), there is a relationship of shared group identity that can be reasonably traced between the Native American human remains and associated funerary objects and Oneida Nation (previously listed as the Oneida Tribe of Indians of Wisconsin); Oneida Indian Nation (previously listed as the Oneida Nation of New York); Onondaga Nation; and Tuscarora Nation.

Additional Requestors and Disposition

Lineal descendants or representatives of any Indian Tribe or Native Hawaiian organization not identified in this notice that wish to request transfer of control of these human remains and associated funerary objects should submit a written request with information in support of the request to Nina M. Versaggi, Public Archaeology Facility, Binghamton University, P.O. Box 6000, Binghamton, NY 13902-6000, telephone (607) 777-4786, email nversagg@binghamton.edu, by September 7, 2018. After that date, if no additional requestors have come forward, transfer of control of the human remains and associated funerary objects to Oneida Nation (previously listed as the Oneida Tribe of Indians of Wisconsin); Oneida Indian Nation (previously listed as the Oneida Nation of New York); Onondaga Nation; and Tuscarora Nation may proceed.

The Binghamton University is responsible for notifying the Cayuga Nation; Delaware Nation, Oklahoma; Delaware Tribe of Indians; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Stockbridge Munsee Community, Wisconsin; Tonawanda Band of Seneca (previously listed as the Tonawanda Band of Seneca Indians of New York); and Tuscarora Nation that this notice has been published.

Dated: July 9, 2018.
Melanie O'Brien,
Manager, National NAGPRA Program.

[FR Doc. 2018-16922 Filed 8-7-18; 8:45 am]

BILLING CODE 4312-52-P